DEPARTMENT OF COMMERCE

National Oceanic and Atmospheric Administration

50 CFR Part 300

[Docket No. 050627169-5169-01; I.D. 051804C]

RIN 0648-AT44

Pacific Halibut Fisheries; Subsistence Fishing; Correction

AGENCY: National Marine Fisheries Service (NMFS), National Oceanic and Atmospheric Administration (NOAA), Commerce.

ACTION: Final rule; correcting amendment.

SUMMARY: This document corrects a final rule published in the Federal Register amending the Subsistence Halibut Program. This correcting amendment corrects the description, geographic coordinates, and associated figures for the Anchorage/Matsu/Kenai non-subsistence marine waters area and the Local Area Management Plan (LAMP) for the halibut fishery in Sitka Sound in the Gulf of Alaska.

DATES: Effective on July 18, 2005.

FOR FURTHER INFORMATION CONTACT: Bubba Cook, 907-586-7425 or bubba.cook@noaa.gov.

SUPPLEMENTARY INFORMATION: The final rule that is the subject of these corrections was published on April 1, 2005 (70 FR 16742), and implemented amendments to the Subsistence Halibut Program. Some of these amendments were intended to address localized depletion in areas of high population density by increasing gear and harvest restrictions in the Sitka Sound LAMP and in the Anchorage/Matsu/Kenai non-subsistence marine waters area. In a recent review of this rule, NMFS discovered typographical errors in the geographic coordinates and description of the Anchorage/Matsu/Kenai non-subsistence marine waters area. NMFS also discovered that the associated revised figures for the Anchorage/Matsu/Kenai non-subsistence marine waters area and the Sitka Sound LAMP were inadvertently omitted.

Need for Correction

The regulations at § 300.65(g)(1)(i)(D) provide an accurate description of the Sitka Sound LAMP setline closure area. However, a parenthetical clause directing the public to a graphical representation of the setline closure area would provide additional assistance in understanding the regulation. Additionally, as published, Figure 1 to Subpart E describing the Sitka Sound LAMP does not correctly identify the setline gear closure area near Low Island established by § 300.65(g)(1)(i)(D). This action amends § 300.65(g)(1)(i)(D) and Figure 1 to Subpart E by adding a parenthetical clause at the end directing the public to Figure 1 to Subpart E and amends Figure 1 to Subpart E to correctly depict the setline closure area.

The definition at § 300.65(g)(3)(iii)(A) unintentionally excludes the westernmost point of Hesketh Island as a visual reference. Additionally, Figure 4 to Subpart E does not accurately represent the geographic boundary line extending from the westernmost point of Hesketh Island across Cook Inlet at 59′30.40′ N. lat. consistent with the definition at § 300.65(g)(3)(iii)(A). This action amends § 300.65(g)(3)(iii)(A) to more precisely describe the non-subsistence area boundaries by adding the visible geographic landmark of Hesketh Island to the description and amends Figure 4 to Subpart E to accurately depict the regulatory description of the Anchorage/Matsu/Kenai non-subsistence marine waters area north of 59′30.40′ N. lat. consistent with the definition at § 300.65(g)(3)(iii)(A).

As published, § 300.65(g)(3)(iii)(B) correctly identifies Cape Douglas as the western shore southern boundary of the Anchorage/Matsu/Kenai non-subsistence marine waters area, but incorrectly states that Cape Douglas is located at 58′10′ N. lat., a geographic position that is actually 41 minutes (41 nautical miles) south of the true location of Cape Douglas. The definition at § 300.65(g)(3)(iii)(B) also incorrectly identifies the description and the geographical coordinates for the easternmost point of Jakolof Bay at 151′31.09′ W. long. This action amends § 300.65(g)(3)(iii)(B) and its associated Figure 4 to Subpart E by correctly describing the geographic coordinates of the Cape Douglas western shore southern boundary of the Anchorage/Matsu/Kenai non-subsistence marine waters area as 58′51.10′ N. lat. Additionally, this action amends § 300.65(g)(3)(iii)(B) to correctly identify the easternmost point at Jakolof Bay as 151′31.90′ W. long., consistent with the westernmost point of Hesketh Island to the north.

Classification

This final rule has been determined to be not significant for the purposes of Executive Order 12866.

Pursuant to 5 U.S.C. 553(b)(3)(B), the Assistant Administrator for Fisheries, NOAA (AA), finds that the need to immediately correct the published coordinates and associated figures for this regulation will eliminate a potential source of confusion and constitutes good cause to waive the requirement to provide prior notice and opportunity for public comment, as such procedures would be unnecessary and contrary to the public interest. Notice and comment is unnecessary because this action makes only minor, non-substantive changes to 50 CFR 300.65. These changes include: (1) correcting typographical errors in the geographic coordinates and description of the Anchorage/Matsu/Kenai non-subsistence marine waters area; and (2) providing revised figures for the Anchorage/Matsu/Kenai non-subsistence marine waters area and the Sitka Sound LAMP that were inadvertently omitted. The rule does not make any substantive change in the rights and obligations of subsistence fishermen managed under the subsistence halibut regulations. No aspect of this action is controversial and no change in operating practices in the fishery is required.

Because this action makes only minor, non-substantive changes to 50 CFR 300.65 and therefore does not constitute a substantive rule, it is not subject to the 30-day delay in effective date requirement of 5 U.S.C. 553(d).

List of Subjects 50 CFR Part 300

Fisheries, Fishing, Indians, Reporting and recordkeeping requirements, Treaties.

Dated: July 13, 2005.
Rebecca Lent
Deputy Assistant Administrator for Regulatory Programs, National Marine Fisheries Service.

For reasons set out in the preamble, 50 CFR part 300 is corrected by making the following correcting amendments:

PART 300—INTERNATIONAL FISHERIES REGULATIONS

Subpart E—Pacific Halibut Fisheries

1. The authority citation for 50 CFR part 300, subpart E, continues to read as follows:

Authority: 16 U.S.C. 773-773k.

2. In § 300.65, paragraphs (g)(1)(i)(D), (g)(3)(iii)(A), and (g)(3)(iii)(B) are revised to read as follows:

§ 300.65 Catch sharing plan and domestic management measures in waters in and off of Alaska.

* * * * *

(g) * * *

(1) * * *

(i) * * *

(D) In Area 2C within the Sitka LAMP from June 1 to August 31, setline gear may not be used in a 4 nautical mile radius extending south from Low Island at 57′00′42″ N. lat., and 135′36′34″ W. long. (see Figure 1 to Subpart E).

* * * * *

(3) * * *

(iii) * * *

(A) All waters of Cook Inlet north of a line extending from the westernmost point of Hesketh Island at 59′30.40″ N. lat., except those waters within mean lower low tide from a point one mile south of the southern edge of the Chuitna River (61′05.00″ N. lat., 151′01.00″ W. long.) south to the easternmost tip of Granite Point (61′01.00″ N. lat., 151′23.00″ W. long.) (Tyonek subdistrict); and

(B) All waters of Alaska south of 59′30.40″ N. lat. on the western shore of Cook Inlet to Cape Douglas (58′51.10″ N. lat.) and in the east to Cape Fairfield (148′50.25″ W. long.), except those waters of Alaska west of a line from the easternmost point of Jakolof Bay (151′31.90″ W. long.), and following the shore to a line extending south from the easternmost point of Rocky Bay (151′18.41″ W. long.); and

* * * * *

3. In the Appendix to Subpart E, revise Figure 1 to Subpart E—Sitka Local Area Management Plan and Figure 4 to Subpart E—Anchorage-Matsu-Kenai Non-rural Area to read as follows:

BILLING CODE 3510-22-S

[FR Doc. 05-14093 Filed 7-15-05; 8:45 am]

BILLING CODE 3510-22-C